DELAWARE RIVER BASIN COMMISSION

18 CFR Part 410

Proposed Temporary Amendment to the Water Quality Regulations, Water Code and Comprehensive Plan To Extend Designation of the Lower Delaware River as a Special Protection Water

AGENCY: Delaware River Basin Commission.

ACTION: Notice of proposed rulemaking and public hearing.

SUMMARY: The Delaware River Basin Commission will hold a public hearing to receive comments on a proposed amendment to the Commission's Water Quality Regulations, Water Code, and Comprehensive Plan to extend the temporary classification of the Lower Delaware River as Significant Resource Waters. The temporary classification was enacted by Commission Resolution No. 2005-2 on January 19, 2005 following notice and comment rulemaking. Its effect was to make the Lower Delaware subject to all applicable provisions of the Commission's Special Protection Waters regulations, except those that depend for implementation upon the use of numeric values for existing water quality. Absent further amendment to extend the classification, it will expire on September 30, 2005. The Commission today proposes to extend that date by up to twelve months. The classification would thus expire on September 30, 2006 unless the Commission should either permanently classify the Lower Delaware River or once again extend the temporary classification by rule amendment prior to that date.

The proposed extension is needed because before deciding whether or not to classify certain sections of the Lower Delaware River as Outstanding Basin Waters as originally proposed, and whether to make the temporary Special Protection Waters designation permanent for some or all of the Lower Delaware River, the Commission wishes to fully evaluate implementation options and establish numeric values for existing water quality based upon analysis of a five-year (2000-2004) data set, for which the final year of data only became available late in 2004. Extension of the temporary designation will protect the exceptional value of the Lower Delaware from degradation during the period required to complete this evaluation and conduct a notice and comment rulemaking process on the numeric values and permanent classification.

DATES: The public hearing will be held on Monday, September 26, 2005 at the Commission's regular business meeting, which will begin at 1:30 p.m. Persons wishing to testify are asked to register in advance with the Commission Secretary, at (609) 883-9500 ext. 203. Written comments will be accepted through the close of the public hearing; however earlier submittals would be appreciated.

ADDRESSES: The public hearing will take place at the Commission's office building, located at 25 State Police Drive, West Trenton, NJ. Directions are posted on the Commission's Web site, http://www.drbc.net. The complete text of Resolution No. 2005-2, temporarily amending the Water Quality Regulations, Water Code, and Comprehensive Plan by classifying the Lower Delaware River as Special Protection Waters, is available on the Commission's Web site at http://www.drbc.net or upon request from the Delaware River Basin Commission, PO Box 7360, West Trenton, NJ 08628-0360.

FOR FURTHER INFORMATION CONTACT: For further information, contact Pamela M. Bush, Commission Secretary and Assistant General Counsel, Delaware River Basin Commission, at 609-883-9500 ext. 203.

SUPPLEMENTARY INFORMATION: On September 22, 2004, the Delaware River Basin Commission published on its Web site a Notice of Proposed Rulemaking to amend the Water Quality Regulations, Water Code and Comprehensive Plan to designate the Lower Delaware River—the reach between River Mile 209.5, which is the downstream boundary of the Delaware Water Gap National Recreation Area, and River Mile 133.4, which is the head of tide at Trenton, NJ—a Special Protection Water. Notice was published in the Federal Register on September 23, 2004 (69 FR 57008), the Delaware Register of Regulations on October 1, 2004, the New Jersey Register on October 4, 2004, the Pennsylvania Code and Bulletin on October 9, 2004, and the New York Register on October 20, 2004. A public hearing was held on October 27, 2004, and the public was invited to comment, either in person at the hearing or in writing through November 30, 2004. When by Resolution No. 2005-2, the Commission amended its regulations by temporarily designating the Lower Delaware a Special Protection Water, the Commission modified its proposed rule in part based upon comments received on the proposed designation and in part based upon the need for additional analysis before all provisions of the Special Protection Waters regulations could be put into effect in the Lower Delaware.

Dated: August 16, 2005.
Pamela M. Bush,
Commission Secretary.

[FR Doc. 05-16526 Filed 8-19-05; 8:45 am]

BILLING CODE 6360-01-P